ENVIRONMENTAL PROTECTION AGENCY

[ER-FRL-6654-4]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in the Federal Register dated April 2, 2004 (69 FR 17403).

Draft EISs

ERP No. D-BIA-K65270-NV Rating LO, Weber Dam Repair and Modification Project, Propose to Repair and Modify Dam, Walker River Paiute Tribe, Right-of-Way Grant and U.S. Army COE Section 404 Permit, Walker River Valley, Lyon and Mineral Counties, NV.

Summary: EPA expressed a lack of objections but recommended that the Final EIS clarify Clean Water Act requirements on placing dredged or fill material in waters of the United States.

ERP No. D-FTA-C40163-NY Rating EC2, Fulton Street Transit Center, Construction and Operation, To Improve Access to and from Lower Manhattan to Serve 12 NYCT Subway Lines, Metropolitan Transportation Authority (MIA), MTA New York City Transit (NYCT), New York, NY.

Summary: EPA expressed environmental concerns with the impacts to air quality. EPA indicated that additional analysis of both the direct and cumulative impacts to air quality (NOX, NO2, and ozone) will be necessary and asked that additional information regarding the mitigation proposals and commitments be provided.

ERP No. D-FTA-C54009-00 Rating EC2, Permanent World Trade Center (WTC) PATH Terminal Project, Reconstruction of a Permanent Terminal at the WTC Site in Lower Manhattan, Port Authority Trans-Hudson (PATH), Several Permits Required for Approval, The Port Authority of New York and New Jersey, NY and NJ.

Summary: EPA expressed environmental concerns with the impacts to air quality. EPA also indicated that additional analysis of the cumulative impacts to air quality (NOX and VOC) will be necessary and requested that more information regarding the mitigation proposals and commitments be provided.

ERP No. DS-FHW-G40169-AR Rating LO, Springdale Northern Bypass Projects, U.S. Highway 412 Construction, Additional Information Designation of a Preferred Alternative, Funding and NPDES Permit Issuance, Benton and Washington Counties, AR.

Summary: EPA had no objection to the selection of the preferred alternative.

Final EISs

ERP No. F-AFS-J65400-UT East Fork Fire Salvage Project Timber Harvesting of Dead and Dying Trees, Implementation, Wasatch-Cache National Forest, Evanston Ranger District, Summit County, UT.

Summary: EPA continues to express concern relating to soil erosion, disturbance, and compaction; runoff and potential degradation of water quality and habitats in streams and affected reservoirs; sedimentation of streams and water-storage reservoirs; and fish and wildlife impacts to sensitive species.

ERP No. F-DOE-E09014-KY Paducah, Kentucky, Site Depleted Uranium Hexafluoride Conversion Facility, Construction and Operation, McCraken County, KY.

Summary: EPA continues to express concern since radiological monitoring, appropriate storage and disposition of radioactive waste will be necessary during the operation phase.

ERP No. F-FHW-E40794-NC Second Bridge to Oak Island Transportation Improvement Project, SR-1104 (Beach Drive) to NC-211, Funding, U.S. Army COE Section 404 and US Coast Guard Bridge Permits Issuance, Brunswick County, NC.

Summary: EPA continues to be concerned due to a change in the purpose and need statement and because the commitments for offsite compensatory wetlands and habitat mitigation are uncertain.

ERP No. F-FHW-H40176-00 US 81 Highway, Yankton Bridge Replacement, Missouri River Crossing between the City of Yankton, Yankton County, South Dakota and Cedar County, Nebraska, Funding and Permit Issuance, SD and NE.

Summary: No formal comment letter was sent to the preparing agency.

ERP No. F-FHW-J40155-CO CO-9 (Frisco to Breckenridge) Highway Improvements Project to Improve a 14.5-kilometer (9-mile) stretch of CO-9 between the Towns of Frisco and Breckenridge to Decrease Travel Time, Improve Safety, Support Transportation needs of Local and Regional Travelers, Funding, Right-of-Way and US Army COE Section 404 Permits, Summit County, CO.

Summary: EPA continued to express concerns due to wetland impacts.

ERP No. F-JUS-G81011-TX Rio Grande Operation Project, Reduction or Elimination of Illegal Drug Activities and Illegal Immigrants, Starr, Hidalgo and Cameron Counties, TX.

Summary: No formal comment letter was sent to the preparing agency.

ERP No. F-USN-K11035-CA Military Family Housing (MFH) in the San Diego Region, Construction of 1,600 MFH Units, Three MFH Sites are Located in the Marine Corps Air Station (MCAS), Miramar in the City of San Diego, San Diego County, CA.

Summary: No formal comment letter was sent to the preparing agency.

ERP No. FS-FHW-F40118-MI US-31 Freeway Connection to I-94, Napier Avenue to I-94 Transportation Improvements, Berrien County, MI.

Summary: Since EPA's previous concerns have been resolved, EPA has no objection to the proposed action.

Dated: August 2, 2004.
B. Katherine Biggs,
Associate Director, Office of Federal Activities.

[FR Doc. 04-18031 Filed 8-5-04; 8:45 am]

BILLING CODE 6560-50-P